DEPARTMENT OF TRANSPORTATION

Federal Highway Administration

Notice of Final Federal Agency Actions on Proposed Highway Project in Wisconsin

AGENCY: Federal Highway Administration (FHWA), DOT.

ACTION: Notice of Limitation on Claims for Judicial Review of Actions by FHWA and Other Federal Agencies.

SUMMARY: This notice announces actions taken by the FHWA that are final within the meaning of 23 U.S.C. 139(l)(1). The actions relate to a proposed highway project, US 18/151 (Verona Road) CTH PD to US 12/14 and US 12/14 (Beltline) Whitney Way to Todd Drive in Dane County, Wisconsin. Those actions grant approvals for the project. The project will be constructed in three stages. Stage 1 entails reconstructing the current US 18/151 and US 12/14 diamond interchange to a single-point urban interchange and extending the six-lane US 12/14 section west through the Whitney Way interchange. The Beltline reconstruction will extend from west of Whitney Way to east of Seminole Highway and will include reconstruction of the Seminole Highway overpass. The US 12/14 modifications will include expanding the Whitney Way westbound off-ramp and the Whitney Way eastbound on-ramp to two lanes and add a parallel lane to the Whitney Way westbound on-ramp. US 18/151 (Verona Road) will be reconstructed from Raymond Road to US 12/14 and include capacity expansion. Midvale Boulevard will be reconstructed between US 12/14 and Nakoma Road. A jug-handle grade-separated intersection will be constructed at the current Summit Road at-grade intersection with US 18/151. Four lanes southbound and three lanes northbound will be provided on US 18/151 from Nakoma Road on Midvale Boulevard to Summit Road. Stage 1 is currently scheduled for construction from approximately 2013 to 2015.

Stage 2 will convert the CTH PD and US 18/151 at-grade intersection to a diamond interchange. Stage 2 will also include a third lane in both directions on US 18/151 from the CTH PD interchange to the Raymond Road intersection and upgrade the Williamsburg Way at-grade intersection. CTH PD will be reconstructed from west of Nesbitt Road to Commerce Park Drive. Stage 2 is currently scheduled for construction from approximately 2017 to 2018.

Stage 3 will be constructed when operations and safety needs become a statewide priority and funding is available. This is currently predicted for around 2030. Stage 3 will separate local and regional traffic by constructing a depressed freeway down the center of Verona Road. A US 151/18 system interchange with depressed US 18/151 ramps will be constructed east of the Verona Road Single-point interchange. A one-way pair local road system will front the depressed US 18/151 freeway. Raymond Road and Williamsburg Way will be grade-separated over US 18/151 freeway. The environmental document will be re-evaluated in coordination with federal, state and local agencies prior to the implementation of Stage 3. Therefore, this notice of limitations does not apply to Stage 3.

DATES: By this notice, the FHWA is advising the public of final agency actions subject to 23 U.S.C. 139(l)(1). A claim seeking judicial review of the Federal agency actions on the highway project will be barred unless the claim is filed within 180 days of publication of this Federal Register notice. If the Federal law that authorizes judicial review of a claim provides a time period of less than 180 days for filing such claim, then that shorter time period still applies.

FOR FURTHER INFORMATION CONTACT: Tracey Blankenship, Major Projects Program Manager, Federal Highway Administration, 525 Junction Road Suite 8000, Madison, Wisconsin 53717; telephone: (608) 829-7510 or email: Tracey.Blankenship@dot.gov. The FHWA Wisconsin Division's normal office hours are 7 a.m. to 4 p.m. central time. For the Wisconsin Department of Transportation (WisDOT): Larry Barta. P.E., Wisconsin Department of Transportation, Southwest Region Office, 2101 Wright Street, Madison, Wisconsin 54303; telephone: (608) 246-3884; email: Larry.Barta@dot.wi.gov.

SUPPLEMENTARY INFORMATION: Notice is hereby given that FHWA has taken final agency actions subject to 23 U.S.C. 139(l)(1) by issuing approvals for the following highway project: US 18/151 (Verona Road) CTH PD to US 12/14 (Beltline) and US 12/14 (Beltline) Whitney Way to Todd Drive, Dane County, Wisconsin, Project ID 1206-07-03. The actions taken by FHWA, and laws under which such actions were taken, are described in the Final Environmental Impact Statement (FEIS) for the project, approved on June 28, 2011 (FHWA-WI-EIS-03-02-F), in the Record of Decision (ROD) issued on November 2, 2011, and in other documents in the FHWA/WisDOT administrative record for the project. The FEIS, ROD, and other project records are available by contacting FHWA or WisDOT at the addresses provided above.

The FEIS can also be viewed on the project Web site: http://www.dot.wisconsin.gov/projects/d1/verona/environment.htm#feis

This notice applies to all Federal agency decisions as of the issuance date of this notice and all laws under which such actions were taken, including but not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [23 U.S.C. 138 and 49 U.S.C. 303], Section 6(f) of the Land and Water Conservation Act as amended [16 U.S.C 4601], and National Trails System Act [16 U.S.C. 1241-1249].

4. Wildlife: Endangered Species Act of 1973 [16 U.S.C. 1531-1543 and Section 1536]; Fish and Wildlife Coordination Act [16 U.S.C. 661-666(c)]; Migratory Bird Treaty Act [16 U.S.C. 760c-760g].

5. Historic and Cultural Resources: Section 106 of the National Historic Preservation Act of 1966, as amended [16 U.S.C. 470(f) et seq.]; Archaeological Resources Protection Act of 1977 [16 U.S.C. 470(aa)-470(ll)]; Archaeological and Historic Preservation Act [16 U.S.C. 469-469(c)]; Native American Grave Protection and Repatriation Act [25 U.S.C. 3001 et seq.].

6. Social and Economic: Civil Rights Act of 1964 [42 U.S.C. 2000(d) et seq.]; American Indian Religious Freedom Act [42 U.S.C. 1996]; Americans With Disabilities Act [42 U.S.C. 12101]; Uniform Relocation Assistance and Real Property Acquisition Act of 1970 [42 U.S.C. 4601 et seq. as amended by the Uniform Relocation Act Amendments of 1987 [P.L. 100-17].

7. Wetlands and Water Resources: Clean Water Act (Section 404, Section 401, Section 319) [33 U.S.C. 1251-1376]; Land and Water Conservation Fund [16 U.S.C. 460l-4 to 460l-11]; Safe Drinking Water Act [42 U.S.C. 300(f)-300(j)(6)]; TEA-21 Wetlands Mitigation [23 U.S.C. 103(b)(6)(m), 133(b)(11)]; Flood Disaster Protection Act, [42 U.S.C. 4001-4128]; Emergency Wetlands Resources Act, [16 U.S.C. 3921, 3931].

8. Hazardous Materials: Comprehensive Environmental Response, Compensation, and Liability Act of 1980 (CERCLA) as amended [42 U.S.C. 9601-9657]; Superfund Amendments and Reauthorization Act of 1986 [Pub. L. 99-499]; Resource Conservation and Recovery Act [42 U.S.C. 6901 et seq.].

9. Executive Orders: E.O. 11990 Protection of Wetlands; E.O. 11988 Floodplain Management as amended by E.O. 12148; E.O. 12898, Federal Actions To Address Environmental Justice in Minority Populations and Low Income Populations; E.O. 11593 Protection and Enhancement of Cultural Resources; E.O. 13007 Indian Sacred Sites; E.O. 13287 Preserve America; E.O. 13175 Consultation and Coordination With Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: December 5, 2011.
Tracey Blankenship,
Major Projects Program Manager, FHWA Wisconsin Division, Madison, Wisconsin.

[FR Doc. 2011-31815 Filed 12-9-11; 8:45 am]

BILLING CODE 4910-RY-P